NUCLEAR REGULATORY COMMISSION

10 CFR Part 61

[NRC-2011-0012]

RIN 3150-AI92

Low-Level Waste Disposal

AGENCY: Nuclear Regulatory Commission.

ACTION: Regulatory basis and preliminary rule language; second request for comment; correction.

SUMMARY: The U.S. Nuclear Regulatory Commission (NRC) is correcting a document appearing in the Federal Register on December 7, 2012 entitled, “Low-Level Waste Disposal” that announced the availability of a regulatory basis document and requested comment on preliminary rule language. This action is necessary to correct the title and number used to access the regulatory basis document in the NRC's Agencywide Documents Access and Management System (ADAMS).

ADDRESSES: Please refer to Docket ID NRC-2011-0012 when contacting the NRC about the availability of information for this document. You may access information and comment submittals related to this document, which the NRC possesses and are publicly available, by any of the following methods:

• Federal Rulemaking Web site: Go to http://www.regulations.gov and search for Docket ID NRC-2011-0012.

• ADAMS: You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Andrew Carrera, Office of Federal and State Materials and Environmental Management Programs, U.S. Nuclear Regulatory Commission, Washington, DC 20555-0001, telephone 301-415-1078, email Andrew.Carrera@nrc.gov.

SUPPLEMENTARY INFORMATION: The NRC is correcting the accession number and title of the regulatory basis document that was referenced in a document the NRC published on December 7, 2012 (77 FR 72997). The regulatory basis document has been further corrected to remove a reference to an unavailable document.

On page 72997 of Federal Register document 2012-29527, published December 07, 2012 (77 FR 72997), in the third column, under the caption titled SUPPLEMENTARY INFORMATION, in the last paragraph of Section A, Accessing Information, under Section I, Accessing Information and Submitting Comments, “Regulatory Analysis for Proposed Revisions to Low-Level Waste Disposal Requirement (10 CFR part 61)” is corrected to read “Regulatory Basis;” and “ML12306A480” is corrected to read “ML12356A242.”

Dated at Rockville, Maryland, this 28th day of December, 2012.
For the Nuclear Regulatory Commission.
Kevin O'Sullivan,
Acting Director, Division of Intergovernmental Liaison and Rulemaking, Office of Federal and State Materials and Environmental Management Programs.

[FR Doc. 2012-31704 Filed 1-7-13; 8:45 am]

BILLING CODE 7590-01-P